DEPARTMENT OF THE INTERIOR

National Park Service

[NPS-AKRO-ANIA-KOVA-CAKR-LACL-DENA-WRST-GAAR-23676;PPAKAKROR4;PPMPRLE1Y.LS0000]

Notice of Open Public Meetings for the National Park Service Alaska Region Subsistence Resource Commission Program

AGENCY: National Park Service, Interior.

ACTION: Meeting notice.

SUMMARY: The National Park Service (NPS) is hereby giving notice that the Aniakchak National Monument Subsistence Resource Commission (SRC), the Kobuk Valley National Park SRC, the Cape Krusenstern National Monument SRC, the Lake Clark National Park SRC, the Denali National Park SRC, the Wrangell-St. Elias National Park SRC, and the Gates of the Arctic National Park SRC will hold public meetings to develop and continue work on NPS subsistence program recommendations, and other related regulatory proposals.

DATES: The Kobuk Valley National Park SRC will meet from 1 p.m. to 5 p.m. or until business is completed on Monday, October 2, 2017, and from 9 a.m. to 12 p.m. on Tuesday, October 3, 2017, in the conference room at the Northwest Arctic Heritage Center, 171 3rd Avenue, Kotzebue, AK 99752. For more detailed information regarding this meeting or if you are interested in applying for SRC membership, contact Designated Federal Official Maija Lukin, Superintendent, at (907) 442-8301, or via email at maija_lukin@nps.gov or Hannah Atkinson, Cultural Resource Specialist, at (907) 442-8342, or via email at hannah_atkinson@nps.gov or Clarence Summers, Subsistence Manager, at (907) 644-3603, or via email at clarence_summers@nps.gov.

The Aniakchak National Monument SRC will meet at Ray's Place Restaurant, 2200 James Street Port Heiden, AK 99549. The SRC meeting and teleconference will take place from 1:30 p.m. to 5 p.m. or until business is completed on Tuesday, October 3, 2017, and Wednesday, October 4, 2017. Teleconference participants should call (907) 246-2154 by Friday, September 29, 2017, to receive teleconference passcode information. Should inclement weather or exceptional circumstances prevent travel to Port Heiden, AK, the meeting and teleconference will be held on Thursday, October 5, 2017, from 1:30 p.m. to 5 p.m. For more detailed information regarding this meeting or if you are interested in applying for SRC membership, contact Designated Federal Official Mark Sturm, Superintendent, at (907) 246-2120, or via email at mark_sturm@nps.gov or Linda Chisholm, Subsistence Coordinator, at (907) 246-2154, or via email at linda_chisholm@nps.gov or Clarence Summers, Subsistence Manager, at (907) 644-3603, or via email at clarence_summers@nps.gov.

The Cape Krusenstern National Monument SRC will meet from 1 p.m. to 5 p.m. or until business is completed on Wednesday, October 4, 2017, and from 9 a.m. to 12 p.m. on Thursday, October 5, 2017, in the conference room at the Northwest Arctic Heritage Center, 171 3rd Avenue, Kotzebue, AK 99752. For more detailed information regarding this meeting or if you are interested in applying for SRC membership, contact Designated Federal Official Maija Lukin, Superintendent, at (907) 442-8301, or via email at maija_lukin@nps.gov or Hannah Atkinson, Cultural Resource Specialist, at (907) 442-4342, or via email at hannah_atkinson@nps.gov or Clarence Summers, Subsistence Manager, at (907) 644-3603 or via email at clarence_summers@nps.gov.

The Lake Clark National Park SRC will meet from 1 p.m. to 5 p.m. or until business is completed on Wednesday, October 4, 2017, at the Port Alsworth Community Center on Flight Line Road in Port Alsworth, AK 99653. There will be a community luncheon prior to the meeting at 12 p.m. Teleconference participants must call the NPS office at (907) 644-3648, prior to the meeting to receive teleconference passcode information. For more detailed information regarding this meeting or if you are interested in applying for SRC membership, contact Designated Federal Official Susanne Green, Superintendent, at (907) 644-3627, or via email at susanne_green@nps.gov or Liza Rupp, Subsistence Manager, at (907) 644-3648, or via at email elizabeth_rupp@nps.gov or Clarence Summers, Subsistence Manager, at (907) 644-3603 or via email at clarence_summers@nps.gov.

The Denali National Park SRC will meet from 9 a.m. to 5 p.m. or until business is completed on Wednesday, October 11, 2017, in the conference room at the Murie Science and Learning Center, Mile 237 Highway 3, Denali Park, AK 99755. For more detailed information regarding this meeting, or if you are interested in applying for SRC membership, contact Designated Federal Official Donald Striker, Superintendent, at (907) 683-2294, or via email at don_striker@nps.gov or Amy Craver, Subsistence Manager, at (907) 644-3604, or via email at amy_craver@nps.gov or Clarence Summers, Subsistence Manager, at (907) 644-3603, or via email at clarence_summers@nps.gov.

The Wrangell-St. Elias National Park SRC will meet from 9 a.m. to 5 p.m. or until business is completed on Thursday, October 26, 2017, and Friday, October 27, 2017, in the conference room at the NPS office in the Copper Center Visitor Center Complex, Wrangell-St. Elias National Park and Preserve, Mile 106.8 Richardson Highway, Copper Center, AK 99573. Teleconference participants must call the NPS office at (907) 644-7236, prior to the meeting to receive teleconference passcode information. For more detailed information regarding these meetings, or if you are interested in applying for SRC membership, contact Designated Federal Official Ben Bobowski, Superintendent, (907) 822-7202, or via email at ben_bobowski@nps.gov or Barbara Cellarius, Subsistence Coordinator, at (907) 822-7236 or via email at barbara_cellarius@nps.gov or Clarence Summers, Subsistence Manager, at (907) 644-3603 or via email at clarence_summers@nps.gov.

The Gates of the Arctic National Park SRC will meet from 9 a.m. to 5 p.m. or until business is completed on Tuesday, November 14, 2017, and Wednesday, November 15, 2017, in the conference room at the Sophie Station Suites, 1717 University Avenue, Fairbanks, AK 99709. For more detailed information regarding this meeting or if you are interested in applying for SRC membership, contact Designated Federal Official Greg Dudgeon, Superintendent, at (907) 457-5752, or via email at greg_dudgeon@nps.gov or Marcy Okada, Subsistence Coordinator, at (907) 455-0639 or via email at marcy_okada@nps.gov or Clarence Summers, Subsistence Manager, at (907) 644-3603, or via email at clarence_summers@nps.gov.

ADDRESSES: The Aniakchak National Monument SRC will meet at Ray's Place Restaurant, 2200 James Street in Port Heiden, AK 99549. The Kobuk Valley National Park SRC and the Cape Krusenstern National Monument will meet at the Northwest Arctic Heritage Center, 171 3rd Avenue, Kotzebue, AK 99752. The Lake Clark National Park SRC will meet at the Port Alsworth Community Center on Flight Line Road in Port Alsworth, AK 99653. The Denali National Park SRC will meet at the Murie Science and Learning Center, Mile 237 Highway 3, Denali National Park, AK 99755. The Wrangell-St. Elias National Park SRC will meet at the NPS office in the Copper Center Visitor Center Complex, Wrangell-St. Elias National Park and Preserve, Mile 106.8 Richardson Highway, Copper Center, AK 99573. The Gates of the Arctic National Park SRC will meet at Sophie Station Suites, 1717 University Avenue, Fairbanks, AK 99709.

SUPPLEMENTARY INFORMATION: The NPS is holding the meeting pursuant to the Federal Advisory Committee Act (5 U.S.C. Appendix 1-16). The NPS SRC program is authorized under section 808 of the Alaska National Interest Lands Conservation Act (16 U.S.C. 3118), title VIII. SRC meetings are open to the public and will have time allocated for public testimony. The public is welcome to present written or oral comments to the SRC. SRC meetings will be recorded and meeting minutes will be available upon request from the Superintendent for public inspection approximately six weeks after the meeting. Before including your address, phone number, email address, or other personal identifying information in your comment, you should be aware that your entire comment—including your personal identifying information—may be made publicly available at any time. While you can ask us in your comment to withhold your personal identifying information from public review, we cannot guarantee that we will be able to do so.

Proposed Meeting Agenda: The agenda may change to accommodate SRC business. The proposed meeting agenda for each meeting includes the following:

1. Call to Order—Confirm Quorum

2. Welcome and Introduction

3. Review and Adoption of Agenda

4. Approval of Minutes

5. Superintendent's Welcome and Review of the SRC Purpose

6. SRC Membership Status

7. SRC Chair and Members' Reports

8. Superintendent's Report

9. Old Business

10. New Business

11. Federal Subsistence Board Update

12. Alaska Boards of Fish and Game Update

13. National Park Service Reports

a. Ranger Update

b. Resource Manager's Report

c. Subsistence Manager's Report

14. Public and Other Agency Comments

15. Work Session

16. Set Tentative Date and Location for Next SRC Meeting

17. Adjourn Meeting

SRC meeting location and date may change based on inclement weather or exceptional circumstances. If the meeting date and location are changed, the Superintendent will issue a press release and use local newspapers and radio stations to announce the rescheduled meeting. The scheduled alternative meeting dates for the Aniakchak National Monument SRC are Tuesday, October 10, 2017, and Wednesday, October 11, 2017, from 1:30 p.m. to 5 p.m. The alternative meeting date for the Denali National Park SRC is Wednesday, October 25, 2017, from 9:00 a.m. to 5:00 p.m.

Authority: 16 U.S.C. 3118; 5 U.S.C. Appendix 1-16.

Alma Ripps,
Chief, Office of Policy.

[FR Doc. 2017-20437 Filed 9-25-17; 8:45 am]

BILLING CODE 4312-52-P